DEPARTMENT OF COMMERCE

Foreign-Trade Zones Board

[B-78-2013]

Foreign-Trade Zone (FTZ) 141—Monroe County, New York; Notification of Proposed Production Activity; American Tactical Imports (Deconstruction of Firearms); Rochester, New York

American Tactical Imports submitted a notification of proposed production activity to the FTZ Board for its facility in Rochester, New York within FTZ 141. The notification conforming to the requirements of the regulations of the FTZ Board (15 CFR 400.22) was received on July 29, 2013.

The American Tactical Imports facility is located within Site 13 of FTZ 141. The facility is used for the deconstruction of firearms through the removal of the barrel and receiver. Pursuant to 15 CFR 400.14(b), FTZ activity would be limited to the specific foreign-status materials and components and specific finished products described in the submitted notification (as described below) and subsequently authorized by the FTZ Board.

Production under FTZ procedures could exempt American Tactical Imports from customs duty payments on the foreign status components used in export production. On its domestic sales, American Tactical Imports would be able to choose the duty rates during customs entry procedures that apply to sporting, hunting or target-shooting rifle kits (duty rate 3.1%) for the foreign status input noted below. Customs duties also could possibly be deferred or reduced on foreign status production equipment.

The components and materials sourced from abroad include: rifles (duty rate 4.7%).

Public comment is invited from interested parties. Submissions shall be addressed to the Board's Executive Secretary at the address below. The closing period for their receipt is September 30, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Elizabeth Whiteman at Elizabeth.Whiteman@trade.gov or (202) 482-0473.

Dated: August 12, 2013.
Andrew McGilvray,
Executive Secretary.

[FR Doc. 2013-20002 Filed 8-16-13; 8:45 am]

BILLING CODE 3510-DS-P